DEPARTMENT OF HEALTH AND HUMAN SERVICES

National Institutes of Health

Statement of Delegation of Authority

Notice is hereby given that I have delegated to the Director, National Institutes of Health (NIH), with the authority to redelegate, the authorities under Section 105 of the National Institutes of Health Reform Act of 2006 (Pub. L. No. 109-482), 42 U.S.C. 284n, pertaining to certain demonstration projects authorized by this Section.

The Secretary of Health and Human Services retains the authority to submit reports to Congress. The delegation shall be exercised in accordance with the Department's applicable policies, procedures, guidelines and regulations. In addition, the delegation ratifies and affirms any actions taken by the Director, National Institutes of Health, or subordinates that involved the exercise of the authorities prior to the effective date of the delegation.

This delegation is effective upon date of signature.

Dated: February 9, 2009.
Charles E. Johnson,
Acting Secretary.

[FR Doc. E9-3844 Filed 2-23-09; 8:45 am]

BILLING CODE 4140-01-M